ENVIRONMENTAL PROTECTION AGENCY

[EPA-HQ-OAR-2003-0053 and EPA-HQ-OAR-2006-0947; FRL 9517-7]

Agency Information Collection Activities; Submission to OMB for Review and Approval; Comment Request; CAIR To Reduce Interstate Transport of Fine Particle Matter and Ozone (Renewal); Correction

AGENCY: Environmental Protection Agency (EPA).

ACTION: Notice; correction.

SUMMARY: The EPA published a document in the Federal Register of May 22, 2012, concerning the Clean Air Interstate Rule to Reduce Interstate Transport of Fine Particle Matter Information Collection Request, including a notice of submission to OMB and a request for comments. The document contained an incorrect docket identification number.

FOR FURTHER INFORMATION CONTACT: Karen VanSickle, Clean Air Markets Division, (6204J), Environmental Protection Agency, 1200 Pennsylvania Ave., NW., Washington, DC 20460; telephone number: 202-343-9220; fax number: 202-343-2361; email address: vansickle.karen@epa.gov.

Correction

In the Federal Register of May 22, 2012, in FR Doc. 2012-12322, on page 30279, in the first column, correct line after “ENVIRONMENT PROTECTION AGENCY” to read:

[EPA-HQ-OAR-2003-0053; FRL 9516-8]

In the Federal Register of May 22, 2012, in FR Doc. 2012-12322, on page 30279, in the second column, correct the ADDRESSES caption to read:

ADDRESSES: Submit your comments, referencing Docket ID No. EPA-HQ-OAR-2003-0053, to (1) EPA online using www.regulations.gov (our preferred method), by email to a-and-r-Docket@epa.gov, or by mail to: EPA Docket Center, Environmental Protection Agency, Air and Radiation Docket (Mail Code 28221T), 1200 Pennsylvania Ave. NW., Washington, DC 20460, and (2) OMB by mail to: Office of Information and Regulatory Affairs, Office of Management and Budget (OMB), Attention: Desk Officer for EPA, 725 17th Street NW., Washington, DC 20503.

In the Federal Register of May 22, 2012, in FR Doc. 2012-12322, on page 30279, in the second column, correct the first line of the second paragraph of the SUPPLEMENTARY INFORMATION caption to read:

EPA has established a public docket for this ICR under EPA Docket ID No. EPA-HQ-OAR-2003-0053, which is available for online viewing at http://www.regulations.gov, or in person viewing at the Air and Radiation Docket, in the EPA Docket Center (EPA/DC), EPA West, Room 3334, 1301 Constitution Ave. NW., Washington, DC.

Joe Sierra,
Acting Director, Collection Strategies Division.

[FR Doc. 2012-12898 Filed 5-25-12; 8:45 am]

BILLING CODE 6560-50-P